DEPARTMENT OF HEALTH AND HUMAN SERVICES

National Institutes of Health

National Institute of Child Health and Human Development; Notice of Meeting

Pursuant to section 10(d) of the Federal Advisory Committee Act, as amended (5 U.S.C. Appendix 2), notice is hereby given of the following meeting.

The meeting will be open to the public, with attendance limited to space available. Individuals who plan to attend and need special assistance, such as sign language interpretation or other reasonable accommodations, should notify the Contract Person listed below in advance of the meeting.

Name of Committee: National Children's Study Advisory Committee.

Date: December 15-16, 2003.

Time: 8:30 a.m. to 5 p.m.

Agenda: The goal of the meeting is to have Advisory committee members work with co-chairs of working groups within thematic areas to discuss concerns, answer questions, increase specificity about exposures and how measured, increase specificity about outcomes and how measured, and to identify gaps in hypothesis.

Place: Sheraton Atlanta Hotel, 165 Courtland Street, Atlanta, GA 30303.

Contact Person: Jan Leahey, Executive Secretary, National Institute of Child Health and Human Development, NIH, 6100 Executive Boulevard, Room 7A07, Bethesda, MD 20892, (301) 435-8867, leaheyj@mail.mnih.gov.

(Catalogue of Federal Domestic Assistance Program Nos. 93.864, Population Research; 93.865, Research for Mothers and Children; 92.929, Center for Medical Rehabilitation Research; 93.209, Contraception and Infertility Loan Repayment Program, National Institutes of Health, HHS)

Dated: November 19, 2003.
LaVerne Y. Stringfield,
Director, Office of Federal Advisory Committee Policy.

[FR Doc. 03-29473 Filed 11-25-03; 8:45 am]

BILLING CODE 4140-01-M